DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: 2008-2009 Medical Expenditure Panel Survey—Insurance Component (MEPS-IC). In accordance with the Paperwork Reduction Act of 1995, Pub. L. 104-13 (44 U.S.C. 3506(c)(2)(A)), AHRQ invites the public to comment on this proposed information collection.

DATES: Comments on this notice must be received by August 27, 2007.

ADDRESSES: Written comments should be submitted to: William Carroll, Reports Clearance Officer, AHRQ, 540 Gaither Road, Room 5048, Rockville, MD 20850.

Copies of the proposed collection plans, data collection instruments, and specific details on the estimated burden can be obtained from the AHRQ Reports Clearance Officer.

FOR FURTHER INFORMATION CONTACT: Doris Lefkowitz, AHRQ Reports Clearance Officer, (301) 427-1477.

SUPPLEMENTARY INFORMATION:

Proposed Project

2008 and 2009 Medical Expenditure Panel Survey—Insurance Component (MEPS-IC).

The MEPS-IC, an annual survey of the characteristics of employer-sponsored health insurance, was first conducted by AHRQ in 1997 for the calendar year 1996. The survey has since been conducted annually for calendar years 1997 through 2006. AHRQ proposes to continue this annual survey of establishments for calendar years 2008 and 2009. The survey data for calendar year 2008 will be collected in that year. Likewise, calendar year 2009 data will be collected in 2009. This is change from earlier MEPS-IC collections, when survey data for a calendar year were collected in the following year (i.e., 2005 survey data were collected in 2006). This changeover means that there will be no data collected for the year 2007. However, the data for 2008 and 2009 will now be released a year earlier than would have occurred under the former collection scheme.

This survey will be conducted for AHRQ by the Bureau of the Census using a sample comprised of an annual sample of employers selected from Census Bureau lists of private sector employers and governments.

Data to be collected from each employer will include a description of the business (e.g., size, industry) and descriptions of health insurance plans available, plan enrollments, total plan costs and costs to employees.

Data Confidentiality Provisions

All MEPS-IC data collected, both identifiable and non-identifiable, will be stored at the Census Bureau. Their confidentiality is protected under the U.S. Census Bureau confidentiality statute, Section 9 of Title 13, United States Code. In addition, because the Census sample lists are developed using Internal Revenue Service (IRS) Tax Information, the data also fall under the review of the IRS which conducts regular audits of the data collection storage and use (Title 26, United States Code).

The confidentiality provisions of the AHRQ statute at 42 U.S.C. 299c-3(c) apply to all data collected for research that is supported by AHRQ. All data products listed below must fully comply with the data confidentiality statute under which their raw data was collected as well as any additional confidentiality provisions that apply.

Data Products

Data will be produced in two forms: (1) Files containing employer information will be available for use by researchers at the Census Bureau's Research Data Centers (all research output is reviewed by Census employees and no identifiable data may leave the Center) and (2) a large compendium of tables of estimates, produced by Census and containing no identifiable data, will be made available on the AHRQ Web site. These tables will contain descriptive statistics, such as, numbers of establishments offering health insurance, average premiums, average contributions, total enrollments, numbers of self insured establishments and other related statistics for a large number of population subsets defined by firm size, state, industry and other establishment characteristics such as, age, profit/nonprofit status and union/nonunion status of the workforce.

The data are intended to be used for purposes such as:

• Generating National and State estimates of employer health care offerings;

• Producing estimates to support the Bureau of Economic Analysis and the Center for Medicare and Medicaid Services in their production of health care expenditure estimates for the National Health Accounts and the Gross Domestic Product;

• Producing National and State estimates of spending on employer-sponsored health insurance to study the results of National and State health care policies; and

• Supply data for modeling the demand for health insurance.

These data provide the basis for researchers to address important questions for employers and policymakers alike.

Method of Collection

The data will be collected using a combination of modes. The Census Bureau's first contact with employers will be made by telephone. This contact will provide information on the availability of health insurance from that employer and essential persons to contact. Based upon this information, Census will mail a questionnaire to the employer. In order to assure high response rates, Census will follow-up with a second mailing after an interval of approximately 30 working days, followed by a telephone call to collect data from those who have not responded by mail.

For larger respondents with high burdens, such as State employers and very large firms, Census may follow special procedures, as needed. These include performing personal visits and doing customized collection, such as accepting data in computerized formats and using special forms. The response rate for the most recent survey was approximately 79%.

Estimated Annual Respondent Burden
Survey years | Annual number of respondents | Estimated time per respondent in hours | Estimated total annual burden hours | Estimated annual cost to the government
2008 | 33,262 | .57 | 19,032 | $9,650,000
2009 | 33,262 | .57 | 19,032 | 9,950,000

Request for Comments

In accordance with the above cited legislation, comments on the AHRQ information collection proposal are requested with regard to any of the following: (a) Whether the proposed collection of information is necessary for the proper performance of functions of the Agency, including whether the information will have practical utility; (b) the accuracy of the Agency's estimate of the burden (including hours and costs) of the proposed collection of information; (c) ways to enhance the quality, utility, and clarity of the information to be collected; and (d) ways to minimize the burden of the collection of information on respondents, including the use of automated collection techniques or other forms of information technology.

Comments submitted in response to this notice will be summarized and included in the request for OMB approval of the proposed information collection. All comments will become a matter of public record.

Dated: June 21, 2007.
Carolyn M. Clancy,
Director.

[FR Doc. 07-3160 Filed 6-27-07; 8:45 am]

BILLING CODE 4160-90-M